DEPARTMENT OF AGRICULTURE

Submission for OMB Review; Comment Request

April 22, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 27, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Milk and Milk Products.

OMB Control Number: 0535-0020.

Summary of Collection: The National Agricultural Statistics Service's primary function is to prepare and issue official State and national estimates of crop and livestock production, disposition, and prices and to collect information on related environmental and economic factors. Estimates of milk production and manufactured dairy products are an integral part of this program. Milk and dairy statistics are used by the U.S. Department of Agriculture to help administer price support programs and by the dairy industry in planning, pricing, and projecting supplies of milk and milk products.

General authority for these data collection activities is granted under U.S. Code Title 7, Section 2204. The legislative actions which affect these surveys are from November 2000, when Congress enacted the “Dairy Market Enhancement Act of 2000,” U.S. Code Title 7, Section 1621, and Public Law 106-532 which changed the program from voluntary to mandatory for reporting the moisture content of cheddar cheese plus the price and quantity of cheddar cheese, butter, non-fat dry milk, and dry whey.

Amendments have been published to the Agricultural Marketing Act of 1946 in conformance with legislated changes enacted by the Dairy Market Enhancement Act of 2000 and the Farm Security and Rural Development Act of 2002. The amendments established a program of mandatory dairy product information reporting. The program requires each manufacturer to report to the USDA information concerning the price, quantity, and moisture content of dairy products sold by the manufacturer. In addition, entities storing dairy products are to report information on the quantity of dairy products stored. Any manufacturer or other entity that processes, markets, or stores less than 1,000,000 pounds of dairy products per year are exempt. The program will provide timely, accurate, and reliable market information; facilitate more informed marketing decisions; and promote competition in the dairy product manufacturing industry.

In April 2012 the authority for collecting Dairy Product Prices was moved from NASS to the Agricultural Marketing Service (AMS). NASS will continue to collect milk production and manufactured dairy product data under this OMB approval.

Need and Use of the Information: NASS will collect information quarterly with the Milk Production Survey. The monthly Milk and Milk Products surveys obtain basic agricultural statistics on milk production and manufactured dairy products from farmers and processing plants throughout the nation. Data are gathered for milk production, evaporated and condensed milk, dairy products, manufactured dry milk and manufactured whey products. Estimates of total milk production, number of milk cow, and milk production per cow, are used by the dairy industry in planning, pricing, and projecting supplies of milk and milk products. The mandatory dairy product information reporting requires each manufacturer to report the price, quantity and moisture content of dairy products sold and each entity storing dairy products to report information on the quantity of dairy products stored. Collecting data less frequently would prevent USDA and the agricultural industry from keeping abreast of changes at the State and National level.

Description of Respondents: Farms; Business or other for-profit.

Number of Respondents: 14,450.

Frequency of Responses: Reporting: Quarterly; Monthly; Annually.

Total Burden Hours: 10,619.

Title: Feral Swine Survey.

OMB Control Number: 0535-0256.

Summary of Collection: Authority to collect these data is authorized under 7 U.S.C. 2204(a). Individually identifiable data collected under this authority are governed by Section 1770 of the Food Security Act of 1985, 7 U.S.C. 2276. On February 3, 1999, Executive Order 13112 was signed by President Clinton establishing the National Invasive Species Council. The Executive Order requires that a Council of Departments dealing with invasive species be created. Currently there are 13 Departments and Agencies on the Council. A benchmark survey was conducted in 2015 in 11 States (Alabama, Arkansas, California, Florida, Georgia, Louisiana, North Carolina, Mississippi, Missouri, South Carolina, and Texas). Target population within these states consisted of farm operations who have historically produced one or more of the following crops: Corn, soybeans, wheat, rice, peanuts or sorghum (Texas only).

In 2017, this survey will be conducted in Alabama, Arkansas, California, Florida, Georgia, Louisiana, Mississippi, Missouri, North Carolina, Oklahoma, South Carolina, Tennessee, and Texas, to measure the damage to livestock that is associated with the presence of feral swine. These States have high feral swine densities and a significant presence of cattle, hogs, sheep and/or goats.

In 2019 the survey was conducted in 12 States: Alabama, Arkansas, California, Florida, Georgia, Louisiana, Mississippi, Missouri, North Carolina, Oklahoma, South Carolina, and Texas. The operators in 11 of the States will be selected from operations that recently produced hay/haylage, tree nuts, melons, sugar cane, sweet potatoes, or cotton. In California, operators will be selected from operations that produced hay/haylage, tree nuts, grapes, sod, carrots, lettuce, or strawberries. APHIS Wildlife Services extrapolated crop damage estimates to the state-level in 12 states with reportable damage yielded an estimated crop loss of $272 million/yr.

The Agriculture Improvement Act authorizes $75,000,000 for the period of fiscal years 2019 through 2023. The funds are to be divided up by the following—50 percent shall be allocated to the Natural Resources Conservation Service (NRCS) to carry out the pilot program, including the provision of financial assistance to producers for on-farm trapping and technology related to capturing and confining feral swine; and 50 percent shall be allocated to the Animal and Plant Health Inspection Service (APHIS) to carry out the pilot program, including the use of established, and testing of innovative, population reduction methods.

The APHIS, Wildlife Services' (WS) National Wildlife Research Center (NWRC) is the only Federal research organization devoted exclusively to resolving conflicts between people and wildlife through the development of effective, selective, and socially responsible methods, tools, and techniques. As increased urbanization leads to a loss of traditional wildlife habitat, the potential for conflicts between people and wildlife increases. Such conflicts can take many forms, including property and natural resource damage, human health and safety concerns, and disease transmission among wildlife, livestock, and humans.

The high reproductive rate and adaptability of feral swine has resulted in populations that have dramatically increased in size and distribution. This invasive animal now occurs across much of the United States where it causes a range of agricultural and environmental damage through depredation, rooting, and wallowing activities. Furthermore, feral swine compete with native wildlife and livestock for habitats, are carriers of exotic and endemic diseases, and transmit parasites to livestock and humans. Feral swine are considered a major emerging threat to American agriculture (Seward et al. 2004). Recent data show that the proportions of U.S. counties with agricultural production that also have feral swine present are increasing.

General authority for these data collection activities is granted under U.S. Code Title 7, Section 2204. This statute specifies that “The Secretary of Agriculture shall procure and preserve all information concerning agriculture which he can obtain . . . by the collection of statistics . . . and shall distribute them among agriculturists.”

Need and Use of the Information: The purpose of the proposed survey is to develop national and State estimates of the damage feral swine cause to agricultural operations, as well as costs of controls and benefits from feral swine hunting. These estimates will be used by APHIS to determine which areas have the greatest amount of damage and where to focus efforts at dealing with the feral swine problem. Financial costs will be measured because these are easily comparable across different states and commodities.

Given the wide range of damages covered in the survey, and the fact that we are relying on estimates based on human memory, there may be compound problems that are difficult to quantify or to identify a single cause. APHIS representatives and NASS survey methodologists recognize this and took care to design the questionnaire to target only damage and losses directly attributable to feral swine.

The feral swine survey is designed to establish crucial baseline levels of damage to American producers of economically important livestock (cattle, hogs, sheep and/or goats). APHIS seeks to work cooperatively and with the assistance of other agencies at the international, Federal, State, Territorial, Tribal, and local levels, and with the cooperation of private management interests, to provide a system for allocation of project resources, and to identify management methods which may be used to address feral swine damage.

Description of Respondents: Farms.

Number of Respondents: 18,000.

Frequency of Responses: Reporting: Annually.

Total Burden Hours: 9,651.

Levi S. Harrell,
Departmental Information Collection Clearance Officer.

[FR Doc. 2021-08754 Filed 4-26-21; 8:45 am]

BILLING CODE 3410-20-P